ELECTION ASSISTANCE COMMISSION

Meeting Notice; Public Meeting of the Technical Guidelines Development Committee

AGENCY: U.S. Election Assistance Commission

ACTION: Public Meeting of the Technical Guidelines Development Committee

SUMMARY: In accordance with the Federal Advisory Committee Act (FACA), Public Law 92-463, as amended (5 U.S.C. Appendix 2), notice is hereby given that the U.S. Election Assistance Commission's (EAC) Technical Guidelines Development Committee (TGDC) will meet in open session on Thursday, September 15, 2016 and Friday, September 16, 2016 at the National Institute of Standards and Technology (NIST) in Gaithersburg, Maryland.

DATES: The meeting will be held on Thursday, September 15, 2016, from 8:30 a.m. until 5:00 p.m., Eastern time (estimated based on speed of business), and Friday, September 16, 2016 from 8:30 a.m. to 12:00 p.m., Eastern time (estimated based on speed of business).

ADDRESS: The meeting will take place at the National Institute of Standards and Technology, 100 Bureau Drive, Building 101, West Square Room, Gaithersburg, Maryland 20899-8900. Members of the public wishing to attend the meeting must notify Gladys Arrisueno by c.o.b. Thursday, September 8, 2016, per instructions under the SUPPLEMENTARY INFORMATION section of this notice.

FOR FURTHER INFORMATION CONTACT: Patricia Wilburg, NIST Voting Program, Information Technology Laboratory, National Institute of Standards and Technology, 100 Bureau Drive, Stop 8970, Gaithersburg, MD 20899-8930, telephone: (301) 975-6994 or patricia.wilburg@nist.gov.

SUPPLEMENTARY INFORMATION: The Technical Guidelines Development Committee will meet Thursday, September 15, 2016, from 8:30 a.m. until 5:00 p.m., Eastern time, and Friday, September 16, 2016 from 8:30 a.m. to 12:00 p.m., Eastern time. Discussions at the meeting will include the following topics: The Working Group and Constituency Groups activities since the February TGDC Meeting that include Cyber Security, Human Factors, Interoperability and Testing; the scope of the VVSG, Post-HAVA Voting System Requirements, Usability & Accessibility, and Security; and the VVSG 2.0 Project Charter. The full meeting agenda will be posted in advance at http://vote.nist.gov/. All sessions of this meeting will be open to the public.

The TGDC was established pursuant to 42 U.S.C 15361, to act in the public interest to assist the Executive Director of the Election Assistance Commission (EAC) in the development of voluntary voting system guidelines. Details regarding the TGDC's activities are available at http://vote.nist.gov/.

All visitors to the National Institute of Standards and Technology site will have to pre-register to be admitted. Anyone wishing to attend this meeting must register by c.o.b. Thursday, September 8, 2016, in order to attend. Please submit your name, time of arrival, email address and phone number to Gladys Arrisueno and she will provide you with instructions for admittance. Non-U.S. citizens must also submit their country of citizenship, title, employer/sponsor, and address. Gladys Arrisueno's email address is gladys.arrisueno@nist.gov, and her phone number is (301) 975-5220. If you are in need of a disability accommodation, such as the need for Sign Language Interpretation, please contact Patricia Wilburg by c.o.b Thursday, September 8, 2016. Patricia Wilburg's contact information is given in the FOR FURTHER INFORMATION CONTACT section above.

Members of the public may submit relevant written statements to the TGDC with respect to the meeting no later than 5:00 p.m. EDT on Thursday, September 8, 2016. Statements may be sent via email at facaboards@eac.gov, via standard mail addressed to the U.S. Election Assistance Commission, 1335 East West Highway, Suite 4300, Silver Spring, MD 20910, or by fax at 301-734-3108. All comments will also be posted on http://vote.nist.gov/.

This meeting will be open to the public.

Bryan Whitener,
Director of Communications & Clearinghouse, U.S. Election Assistance Commission.

[FR Doc. 2016-20901 Filed 8-30-16; 8:45 am]

BILLING CODE 6820-KF-P